GENERAL SERVICES ADMINISTRATION

41 CFR Parts 300-70, 301-2, 301-10, 301-13, 301-50, 301-70, 301-71, Appendix C to Chapter 301, 304-3, and 304-5

[FTR Amendment 2009-06; FTR Case 2009-309; Docket Number 2009-0014, Sequence 1]

RIN 3090-AI98

Federal Travel Regulation (FTR); FTR Case 2009-309, Premium Class Travel and Transportation Allowances

AGENCY: Office of Governmentwide Policy, General Services Administration (GSA).

ACTION: Final rule.

SUMMARY: The General Services Administration (GSA) is amending the Federal Travel Regulation (FTR) by implementing recommendations contained in the September 2007, Government Accountability Office (GAO) report, “Premium Class Travel: Internal Control Weaknesses Governmentwide Led to Improper and Abusive Use of Premium Class Travel” (GAO-07-1268). This final rule strengthens the management and accountability measures related to the use of premium class transportation accommodations by Federal employees while on official business travel.

DATES: Effective date: This final rule is effective November 27, 2009. Applicability date: This final rule is applicable to travel performed on and after November 27, 2009.

FOR FURTHER INFORMATION CONTACT: The Regulatory Secretariat (MVPR), Room 4041, GS Building, Washington, DC, 20405, (202) 501-4755, for information pertaining to status or publication schedules. For clarification of content, contact Mr. Rick Miller, Office of Governmentwide Policy, at (202) 501-3822 or e-mail at rodney.miller@gsa.gov. Please cite FTR Amendment 2009-06; FTR case 2009-309.

SUPPLEMENTARY INFORMATION:

A. Background

This final rule implements recommendations contained in the GAO report, “Premium Class Travel: Internal Control Weaknesses Governmentwide Led to Improper and Abusive Use of Premium Class Travel” (GAO-07-1268). In the report, GAO made five recommendations to GSA to improve management and oversight of premium class travel. One recommendation by GAO is that GSA establish an internal central oversight office for travel management with authority over agency travel policies and programs. GSA has created the Center for Policy Evaluation which works with Federal agencies to identify opportunities for Governmentwide improvements in travel and transportation. The other four recommendations are addressed in this final rule and should strengthen requirements related to the authorization and use of premium class transportation accommodations by requiring more extensive reporting on premium class travel, including business-class, for Temporary Duty travel (TDY) and Permanent Change of Station (PCS) relocations; requiring agencies to define what constitutes a rest period upon arrival; requiring agencies to develop and issue internal guidance that explains when mission criteria and the intent of that mission call for premium class transportation accommodations; requiring annual certifications for medical disabilities or other special needs accommodations; and clarifying other specific provisions of the FTR which relate to premium class transportation accommodations. Accordingly, this final rule amends the FTR by:

1. Section 300-70.100—Adding the requirement that agencies report the use of all “other than coach-class” transportation accommodations which exceed the coach-class fare.

2. Section 300-70.101— Clarifies where agencies may obtain information regarding reporting requirements for use of other than coach-class transportation accommodations.

3. Section 300-70.102— Adding the requirement that agencies submit their other than coach-class transportation information to GSA no later than 60 days after the end of each fiscal year, including negative reports.

4. Section 300-70.103— Deleting the current section 300-70.103; re-designating current section 300-70.104 as section 300-70.103; replacing the words “first-class” with “other than coach-class”; and clarifying the current regulation for submitting negative reports when reporting data is also protected from public disclosure.

5. Section 301-2.5— Replacing the words “first-class or business-class” with “other than coach-class”.

6. Section 301-10.105— Replacing the words “business-class or first-class” with “other than coach-class”.

7. Section 301-10.121— Revising the definition of the classes of accommodations offered by air carriers.

8. Section 301-10.123— Replacing the words “first-class” with “other than coach-class’; reformatting and revising the current regulation to include the current provisions of section 301-10.124; adding the requirement for annual certification of a disability or special need of a traveler; and adding the requirement for a one-time certification of a disability or special need of a traveler who has a lifelong condition.

9. Section 301-10.124— Deleting the current regulation and replacing it with clarification regarding the use of coach-class seating upgrade programs.

10. Section 301-10.125— Adding a new section on clarification regarding the use of the 14-hour rule.

11. Section 301-10.160— Amending and re-designating current section 301-10.160 paragraphs(c) and (d) as section 301-10.160(c)(1) and (c)(2).

12. Section 301-10.161 - Replacing the words “first-class” with “other than coach-class”.

13. Section 301-10.162— Replacing the words “first-class” with “other than coach-class”; clarifying the current regulation; adding the requirement for annual certification of a disability or special need of a traveler; adding the requirement for a one-time certification of a disability or special need of a traveler who has a lifelong condition; and adding a new exception as to when a traveler may use a higher class of train service.

14. Section 301-10.164— Clarifying the current regulation regarding the use of a higher class of train service other than the lowest available class of accommodations.

15. Section 301-10.182— Replacing the words “first-class” with “other than lowest first-class”.

16. Section 301-10.183— Replacing the words “first-class” with “other than lowest first-class”; adding the requirement for annual certification of a disability or special need of a traveler; and adding the requirement for a one-time certification of a disability or special need of a traveler who has a lifelong condition.

17. Section 301-13.3— Replacing the term “Premium-class” with “other than coach-class”.

18. Section 301-50.8—Replacing the words “first-class or business-class” with “other than coach-class”.

19. Section 301-70.102— Adding the requirement that agencies develop and publish internal guidance that identify the specific mission criteria that justify the authorization and use of other than coach-class or lowest first-class transportation accommodations. Adding the requirement that agencies develop and define what constitutes a rest period upon arrival at a temporary duty location.

20. Section 301-71.105— Replacing the words “first-class or business-class” with “other than coach-class”.

21. Appendix C to Chapter 301, Standard Data Elements for Federal Travel—Renaming Table entitled “Travel Expense Information (Standard Data Elements for Federal Travel”) to read “Standard Expense Data for Federal Travel (Travel Expense Information”); and replacing the words “First-class and Business-class” with “Other than coach-class” and replacing the words “Non-first-class and Non-business-class” with the words “Coach-class” in Tables “Standard Data Elements for Federal Travel (Commercial Transportation Information)” and newly designated “Standard Data Expense for Federal Travel (Travel Expense Information)”.

22. Section 304-3.9—Replacing the words “business-class” with “other than coach-class” and reformatting and revising the current regulation to include the current provisions of section 304-3.10.

23. Section 304-3.10—Removing and reserving section 304-3.10.

24. Section 304-5.5—Replacing the words “business-class” with “other than coach-class” and reformatting and revising the current regulation to include the current provisions of section 304-5.6.

25. Section 304-5.6—Deleting the current section 304-5.6 and re-designating current section 304-5.7 as section 304-5.6.

B. Executive Order 12866

This is not a significant regulatory action and, therefore, was not subject to review under Section 6(b) of Executive Order 12866, Regulatory Planning and Review, dated September 30, 1993. This final rule is not a major rule under 5 U.S.C. 804.

C. Regulatory Flexibility Act

This final rule is not required to be published in the Federal Register for notice and comment, therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from Congressional review prescribed under 5 U.S.C. 801 since it relates solely to agency management and personnel.

List of Subjects in 41 CFR Parts 300-70, 301-2, 301-10, 301-13, 301-50, 301-70, 301-71, Appendix C to Chapter 301, 304-3, and 304-5.

Government employees, Travel and transportation expenses.

Dated: September 4, 2009.
Paul F. Prouty,
Acting Administrator of General Services

For the reasons set forth in the preamble, under 5 U.S.C. 5701-5709 and 31 U.S.C. 1353, GSA amends 41 CFR Parts 300-70, 301-2, 301-10, 301-13, 301-50, 301-70, 301-71, Appendix C to Chapter 301, 304-3, and 304-5 to read as follows:

PART 300-70—AGENCY REPORTING REQUIREMENTS

1. The authority citation for 41 CFR Part 300-70 is revised to read as follows:

Authority: 5 U.S.C. 5707; 5 U.S.C. 5738, 5 U.S.C. 5741-5742; 20 U.S.C. 905(a); 31 U.S.C. 1353; 40 U.S.C. 121(c); 49 U.S.C. 40118; E.O. 11609, as amended, 3 CFR, 1971-1973 Comp. p. 586.

Subpart B [Amended]

2. Amend the heading to Subpart B by removing “First-Class” and adding “Other Than Coach-Class” in its place.

§ 300-70.100 [Amended]

3. Amend § 300-70.100, in the section heading, by removing “first-class” and adding “other than coach-class” in its place.

4. Revise § 300-70.101 to read as follows:

§ 300-70.101 Where can we find what information we are required to report?

GSA will issue a Bulletin which will inform agencies of the required information and reporting format(s) for any trip in which the agency authorized and paid for transportation that exceeded the use of coach-class or lowest first-class accommodations. Negative submissions are required. Bulletins regarding the Federal Travel Regulation are located on the Internet at www.gsa.gov/bulletin.

5. Revise § 300-70.102 to read as follows:

§ 300-70.102 How often must we report the required information?

You must annually submit the required information to GSA no later than 60 days after the end of each fiscal year.

§ 300-70.103 [Removed]

6. Remove § 300-70.103.

§ 300-70.104 [Redesignated as § 300-70.103]

7. Section § 300-70.104 is redesignated as § 300-70.103.

8. Revise the newly-designated § 300-70.103 to read as follows:

§ 300-70.103 Are there any exceptions to the reporting requirement?

Yes. You are not required to report data that is protected from public disclosure by statute or Executive Order. However, you are required to submit, in a cover letter to GSA, the following aggregate information.

(a) Aggregate number of authorized other than coach-class trips that are protected from disclosure;

(b) Total cost of actual other than coach-class fares paid that exceeded the coach-class fare; and

(c) Total cost of coach class fares that would have been paid for the same travel.

NOTE to § 300-70.103: If the aggregate information is also protected from public disclosure then a negative report must be submitted to GSA.

CHAPTER 301—TEMPORARY DUTY (TDY) TRAVEL ALLOWANCES

PART 301-2—GENERAL RULES

9. The authority citation for 41 CFR Part 301-2 continues to read as follows:

Authority: 5 U.S.C 5707; 31 U.S.C. 1353; 49 U.S.C. 40118.

10. Amend § 301-2.5 by revising paragraph (a) to read as follows:

§ 301-2.5 What travel arrangements require specific authorization or prior approval?

(a) Use of other than coach-class service on common carrier transportation;

PART 301-10—TRANSPORTATION EXPENSES

11. The authority for 41 CFR Part 301-10 continues to read as follows:

Authority: 5 U.S.C. 5707; 40 U.S.C. 121(c); 40 U.S.C. 40118, Office of Management and Budget Circular No. A-126, “Improving the Management and Use of Government Aircraft.” Revised April 28, 2006.

12. Amend § 301-10.105 by revising paragraph (b) to read as follows:

§ 301-10.105 What are the basic requirements for using airlines?

(b) Using coach-class service, unless other than coach-class service is authorized:

13. Revise § 301-10.121 to read as follows:

§ 301-10.121 What classes of airline accommodations are available?

Airlines are constantly updating their offerings. However, for the purposes of this regulation, the classes of available air accommodations are identified and defined as follows:

(a) Coach-class. The basic class of accommodation by airlines that is normally the lowest fare offered regardless of airline terminology used. For reference purposes only, coach-class may also be referred to by airlines as “tourist class,” “economy class,” or as “single class” when the airline offers only one class of accommodations to all travelers.

(b) Other than coach-class. Any class of accommodations above coach-class, e.g., first-class or business-class.

(1) First-class. The highest class of accommodation offered by the airlines in terms of cost and amenities. This is generally termed “first-class” by airlines and reservation systems.

(2) Business-class. A class of accommodation offered by airlines that is higher than coach and lower than first-class, in both cost and amenities. This class of accommodation is generally referred to as “business, business elite, business first, world business, connoisseur, or envoy” depending on the airline.

Note to § 301-10.121: If an airline flight has only two classes of accommodations available, i.e., two “cabins”, with two distinctly different seating types (such as girth and pitch) and the front cabin is termed “business-class” or higher by the airline and the tickets are fare-coded as business-class, then the front of the cabin is deemed to be other than coach-class. Alternatively, if an airline flight has only two cabins available but equips both with one type of seating, (i.e., seating girth and pitch are the same in both cabins), and the seats in the front of the airplane are fare coded as full-fare economy class, and only restricted economy fares are available in the back of the aircraft, then the entire aircraft is to be classified as coach-class seating. In this second situation, qualifying for other than coach-class travel is not required to purchase a non-restricted economy fare seat in the front of the aircraft as the entire aircraft is considered “coach-class.”

14. Revise § 301-10.123 to read as follows:

§ 301-10.123 When may I use other than coach-class airline accommodations?

Government travelers are required to exercise the same care in incurring expenses that a prudent person would exercise if traveling on personal business when making official travel arrangements, and therefore, should consider the least expensive class of travel that meets their needs. You may use the lowest other than coach-class airline accommodations only when your agency specifically authorizes/approves such use as specified in paragraphs (a) and (b) of this section.

(a) Your agency may authorize/approve first class accommodations if any of the following apply:

(1) No coach-class accommodations are reasonably available. “Reasonably available” means available on an airline that is scheduled to leave within 24 hours of your proposed departure time, or scheduled to arrive within 24 hours of your proposed arrival time;

(2) When use of other than coach-class is necessary to accommodate a medical disability or other special need.

(i) A disability must be certified annually in a written statement by a competent medical authority. However, if the disability is a lifelong condition, then a one-time certification statement is required. Certification statements must include at a minimum:

(A) A written statement by a competent medical authority stating that special accommodation is necessary;

(B) An approximate duration of the special accommodation; and

(C) A recommendation as to the suitable class of transportation accommodations based on the disability.

(ii) A special need must be certified annually in writing according to your agency’s procedures. However, if the special need is a lifelong condition, then a one-time certification statement is required;

(iii) If you are authorized under § 301-13.3(a) of this Subchapter to have an attendant accompany you, your agency may also authorize the attendant to use other than coach-class accommodations if you require the attendant’s services en route;

(3) When exceptional security circumstances require other than coach-class airline accommodations. Exceptional security circumstances are determined by your agency and should only be authorized up to the minimum other than coach-class accommodation necessary. These circumstances include, but are not limited to:

(i) Use of coach-class accommodations would endanger your life or Government property;

(ii) You are an agent on protective detail and you are accompanying an individual authorized to use other than coach-class accommodations; or

(iii) You are a courier or control officer accompanying controlled pouches or packages;

(4) When required because of agency mission, consistent with your agency’s internal procedures pursuant to § 301-70.102(i).

(b) Your agency may authorize/approve business-class accommodations if any of the following apply:

(1) When use of other than coach-class is necessary to accommodate a medical disability or other special need.

(i) A disability must be certified annually in a written statement by a competent medical authority. However, if the disability is a lifelong condition, then a one-time certification statement is required. Certification statements must include at a minimum:

(A) A written statement by a competent medical authority stating that special accommodation is necessary;

(B) An approximate duration of the special accommodation; and

(C) A recommendation as to the suitable class of transportation accommodations based on the disability.

(ii) A special need must be certified annually in writing according to your agency’s procedures. However, if the special need is a lifelong condition, then a one-time certification statement is required;

(iii) If you are authorized under § 301-13.3(a) of this Subchapter to have an attendant accompany you, your agency may also authorize the attendant to use other than coach-class accommodations if you require the attendant’s services en route;

(2) When exceptional security circumstances require other than coach-class airline accommodations. Exceptional security circumstances are determined by your agency and should only be authorized to the minimum other than coach-class accommodation necessary to meet the agency's mission. These circumstances include, but are not limited to:

(i) Use of coach-class accommodations would endanger your life or Government property;

(ii) You are an agent on protective detail and you are accompanying an individual authorized to use other than coach-class accommodations; or

(iii) You are a courier or control officer accompanying controlled pouches or packages;

(3) Coach-class accommodations on an authorized/approved foreign air carrier do not provide adequate sanitation or health standards;

(4) Regularly scheduled flights between origin/destination points (including connecting points) provide only other than coach-class accommodations and you certify such on your voucher;

(5) Your transportation costs are paid in full through agency acceptance of payment from a non-Federal source in accordance with Chapter 304 of this Title;

(6) Where the origin and/or destination are OCONUS, and the scheduled flight time, including stopovers and change of planes, is in excess of 14 hours, in accordance with § 301-10.125;

(7) The use results in an overall cost savings to the Government by avoiding additional subsistence costs, overtime, or lost productive time while awaiting coach-class accommodations;

(8) No space is available in coach-class accommodations in time to accomplish the mission, which is urgent and cannot be postponed; or

(9) When required because of agency mission, consistent with your agency's internal procedures pursuant to § 301-70.102(i).

Note 1 to § 301-10.123: You may upgrade to other than coach-class accommodations at your personal expense, including through redemption of frequent flyer benefits.

Note 2 to § 301-10.123: Blanket authorization of other than coach-class transportation accommodations is prohibited and shall be authorized on an individual trip-by-trip basis, unless the traveler has an up-to-date documented disability or special need.

15. Revise § 301-10.124 to read as follows:

§ 301-10.124 What are coach-class Seating Upgrade Programs?

Sometimes these programs are called “Coach Elite,” “Coach Plus,” “Preferred Coach” or some other identifier. Under these airline programs, a passenger may obtain for a fee a more desirable seat choice within the coach-class cabin. These airline upgrade or preferred seat choices are generally available for an annual fee, at an airport kiosk or gate or as a frequent flier perk. These coach upgrade options are not considered a new or higher class of accommodation since the seating is still in the coach cabin. However, the use of these upgraded/preferred coach seating options is generally a traveler’s personal choice and therefore is at the traveler’s personal expense. An agency travel authorization approving official or his/her designee (e.g., supervisor of the traveler) may authorize and reimburse the additional seat choice fee, according to internal agency policy.

16. Add § 301-10.125 to read as follows:

§ 301-10.125 When may I use the 14-hour rule to travel other than coach-class (see § 301-10.123(b)(6))?

(a) You may use the 14-hour rule to travel via other than coach-class when:

(1) The origin and/or destination are OCONUS; and

(2) The scheduled flight time, including non-overnight stopovers and change of planes, is in excess of 14 hours; and

(3) You are required to report to duty the following day or sooner.

(b) Scheduled flight time is the flight time between the originating departure point and the ultimate arrival point including scheduled non-overnight time spent at airports during plane changes. Scheduled non-overnight time does not include time spent at the originating or ultimate arrival airports.

(c) If other than coach-class accommodation is authorized based on the 14-hour rule then you will not be eligible for a rest stop en route or a rest period upon arrival at your duty site, in accordance with internal agency procedures pursuant to § 301-70.102(j).

17. Amend § 301-10.160 by revising paragraph (c), removing paragraph (d), and adding a note to the section to read as follows:

§ 301-10.160 What classes of train accommodations are available?

(c) Other than coach-class - Any class of accommodations above coach, e.g., first-class or business-class.

(1) First-class—Includes bedrooms, roomettes, club service, parlor car accommodations or other premium accommodations.

(2) Business-class—A class of extra fare train service that is offered above coach class, but is lower than first-class, as described above.

Note to § 301-10.160: If a train only has two classes of accommodations available, i.e., first and business class, then the business class is deemed to be classified as coach-class for purposes of official travel, as it is the lowest class offered.

18. Revise § 301-10.161 to read as follows:

§ 301-10.161 What class of train accommodations must I use?

You must use coach-class accommodations for all train travel, except when your agency authorizes other than coach-class service.

19. Revise § 301-10.162 to read as follows:

§ 301-10.162 When may I use other than coach-class train accommodations?

You may use other than coach-class train accommodations only when your agency specifically authorizes/approves this use under paragraphs (a) through (e) of this section.

(a) No coach-class accommodations are reasonably available on a train that is scheduled to leave within 24 hours of your proposed departure time, or scheduled to arrive within 24 hours of your proposed arrival time;

(b) When use of other than coach-class accommendations is necessary to accommodate a medical disability or other special need.

(1) A disability must be certified annually in a written statement by a competent medical authority. However, if the disability is a lifelong condition, then a one-time certification statement is required. Certification statements must include at a minimum:

(i) A written statement by a competent medical authority stating that special accommodation is necessary;

(ii) An approximate duration of the special accommodation; and

(iii) A recommendation as to the suitable class of transportation accommodations based on the disability.

(2) A special need must be certified annually in writing according to your agency’s procedures. However, if the special need is a lifelong condition, then a one-time certification statement is required;

(3) If you are authorized under § 301-13.3(a) of this Subchapter to have an attendant accompany you, your agency may also authorize the attendant to use other than coach-class accommodations if you require the attendant’s services en route;

(c) When exceptional security circumstances require other than coach-class rail accommodations. Exceptional security circumstances are determined by your agency and should only be authorized to the minimum other than coach-class accommodation necessary to meet the agency’s mission. These circumstances include, but are not limited to:

(1) Use of coach-class accommodations would endanger your life or Government property;

(2) You are an agent on protective detail and you are accompanying an individual authorized to use other than coach-class accommodations; or

(3) You are a courier or control officer accompanying controlled pouches or packages;

(d) Coach-class accommodations on an authorized/approved foreign rail carrier do not provide adequate sanitation or health standards; or

(e) When required because of agency mission, consistent with your agency’s internal procedures pursuant to § 301-70.102(i).

20. Revise § 301-10.164 to read as follows:

§ 301-10.164 When may I use extra-fare train service?

You may use extra-fare train service whenever your agency determines it is more advantageous to the Government or is required for security reasons. Extra-fare train service is considered to be a class above the lowest class offered on any particular train and must be authorized/approved as provided in § 301-10.162.

21. Amend § 301-10.182 by revising paragraphs (a) and (b) to read as follows:

§ 301-10.182 What classes of ship accommodations are available?

(a) Other than lowest first-class—All classes above the lowest first-class, includes but is not limited to a suite.

(b) Lowest first-class—The least expensive class of reserved accommodations available on a ship.

22. Amend § 301-10.183 by revising the introductory paragraph and paragraphs (b) and (c), and adding paragraph (d), to read as follows:

§ 301-10.183 What class of ship accommodations must I use?

You must use the lowest first-class accommodations when traveling by ship, except when your agency specifically authorizes/approves your use of other than lowest first-class ship accommodations under paragraphs (a) through (d) of this section.

(b) When use of other than lowest first-class accommodations is necessary to accommodate a medical disability or other special need.

(1) A disability must be certified annually in a written statement by a competent medical authority. However, if the disability is a lifelong condition, then a one-time certification statement is required. Certification statements must include at a minimum:

(i) A written statement by a competent medical authority stating that special accommodation is necessary;

(ii) An approximate duration of the special accommodation; and

(iii) A recommendation as to the suitable class of transportation accommodations based on the disability.

(2) A special need must be certified annually in writing according to your agency’s procedures. However, if the special need is a lifelong condition, then a one-time certification statement is required;

(3) If you are authorized under § 301-13.3(a) of this Subchapter to have an attendant accompany you, your agency may also authorize the attendant to use other than lowest first-class class accommodations if you require the attendant’s services en route;

(c) When exceptional security circumstances require other than lowest first-class travel. Exceptional security circumstances are determined by your agency and should only be authorized to the minimum other than lowest first-class travel accommodation necessary to meet the agency's mission. These circumstances include, but are not limited to:

(1) The use of lowest first-class accommodations would endanger your life or Government property; or

(2) You are an agent on protective detail and you are accompanying an individual authorized to use other than lowest first-class accommodations; or

(3) You are a courier or control officer accompanying controlled pouches or packages.

(d) When required because of agency mission, consistent with your agency’s internal procedures pursuant to § 301-70.102(i).

PART 301-13—TRAVEL OF AN EMPLOYEE WITH SPECIAL NEEDS

23. The authority citation for 41 CFR Part 301-13 continues to read as follows:

Authority: 5 U.S.C. 5707.

24. Amend § 301-13.3 by revising paragraph (f) to read as follows:

§ 301-13.3 What additional travel expenses may my agency pay under this Part?

(f) Other than coach-class accommodations to accommodate your special need, under Subpart B of Part 301-10 of this Subchapter; and

PART 301-50—ARRANGING FOR TRAVEL SERVICES

25. The authority citation for 41 CFR Part 301-50 continues to read as follows:

Authority: 5 U.S.C. 5707; 40 U.S.C. 121(c).

26. Amend § 301-50.8 by revising paragraph (a)(2) to read as follows:

§ 301-50.8 Are there any limits on travel arrangements I may make?

(a) * * *

(2) You may use other than coach-class accommodations only under §§ 301-10.123 and 301-10.162, and lowest first-class accommodations only under § 301-10.183 of this Chapter; and

PART 301-70—INTERNAL POLICY AND PROCEDURE REQUIREMENTS

27. The authority citation for 41 CFR Part 301-70 is revised to read as follows:

Authority: 5 U.S.C. 5707; 40 U.S.C. 121(c); Sec 2, Pub. L. 105-264, 112 Stat. 2350 (5 U.S.C. 5701, note), Office of Management and Budget Circular No. A-126, “Improving the Management and Use of Government Aircraft,” revised May 22, 1992 and OMB Circular No. A-123, Appendix B, “Improving the Management of Government Charge Card Programs,” revised January 15, 2009.

28. Amend § 301-70.102 by revising paragraph (b)(1); removing “and” at the end of paragraph (g); removing the period at the end of paragraph (h)(3) and adding a semicolon in its place; and adding paragraphs (i) and (j) to read as follows:

§ 301-70.102 What governing policies must we establish for authorization and payment of transportation expenses?

(b) * * *

(1) Use of other than coach-class transportation accommodations for air and rail under §§ 301-10.123 and 301-10.162, and lowest first-class accommodations for ship under § 301-10.183 of this chapter.

(i) Develop and issue internal guidance on what specific mission criteria justify approval of the use of other than coach-class transportation under §§ 301-10.123(a)(4), 301-10.123(b)(9), and 301-10.162(e) or the use of other than lowest first-class under § 301-10.183(d). The justification criteria shall be entered in the remarks section of the traveler’s travel authorization; and

(j) Develop and publish internal guidance regarding what constitutes a rest period upon arrival at a temporary duty location.

PART 301-71-AGENCY TRAVEL ACCOUNTABILITY REQUIREMENTS

29. The authority citation for 41 CFR Part 301-71 continues to read as follows:

Authority: 5 U.S.C 5707; 40 U.S.C. 121(c); Sec 2., Pub L. 105-264, 112 Stat. 2350 (5 U.S.C 5701, note).

30. Amend § 301-71.105 by revising paragraph (a) to read as follows:

§ 301-71.105 Must we issue a written or electronic travel authorization in advance of travel?

(a) Use of other than coach-class service accommodation on common carriers or use of other than lowest first-class accommodation on ships;

31. Amend Appendix C to Chapter 301 by revising the tables under the headings “Commercial Transportation Information” and “Travel Expense Information” to read as follows:

Appendix C to Chapter 301—Standard Data Elements for Federal Travel

Commercial Transportation Information
Group name | Data elements | Description
Transportation Payment |  | Method employee used to purchase transportation tickets
Method Indicator | GTR | U.S. Government Transportation Request
| Central Billing Account | A contractor centrally billed account
| Government Charge Card | In accordance with and as provided by agency guidelines
| Cash |
Transportation Payment Identification Number | Payment ID Number | A number that identifies the payment for the transportation tickets, according to agency guidelines, e.g., GTR number, Govt. contractor-issued charge card number
Transportation Method Indicator | Air (other than coach-class) | Common carrier used as transportation to TDY location
| Air (coach-class) |
| Non-contract Air, Train, Other |
Local Transportation Indicator | POV, Car rental, Taxi, Other | Identifies local transportation used while on TDY

Travel Expense Information
Group name | Data elements | Description
Per Diem | Total Number of Days | The number of days traveler claims to be on per diem status, for each official travel location
| Total Amount Claimed | The amount of money traveler claims as per diem expense
| Lodging, Meals & Incidentals |
Travel Advance | Advance Outstanding | The amount of travel advance outstanding, when the employee files the travel claim
| Remaining Balance | The amount of the travel advance that remains outstanding
Subsistence | Actual Days | Total number of days the employee charged actual subsistence expenses
|  | The number of days must be expressed as a whole number
| Total Actual Amount | Total amount of actual subsistence expenses claimed as authorized. Actual subsistence rate, per day, may not exceed the maximum subsistence expense rate established for official travel by the Federal Travel Regulation
Transportation Method Cost | Air (other than coach-class) | The amount of money the transportation actually cost the traveler, entered according to method of transportation
| Air (coach-class) |
| Non-contract Air, Train |
| Other | Bus or other form of transportation
Local Transportation (in, around, or about the temporary duty station) | POV mileage | Total number of miles driven in POV
| POV mileage expense | Total amount claimed as authorized based on mileage rate. Different mileage rates apply based on type and use of the POV
| Car rental, Taxis, Other |
Constructive cost | Constructive cost | The difference between the amount authorized to spend versus the amount claimed
Reclaim | Reclaim amount | An amount of money previously denied as reimbursement for which additional justification is now provided
Total Claim | Total claim | The sum of the amount of money claimed for per diem, actual subsistence, mileage, transportation method cost, and other expenses

PART 304-3—EMPLOYEE RESPONSIBILITY

32. The authority citation for 41 CFR Part 304-3 continues to read as follows:

Authority: 5 U.S.C. 5707; 31 U.S.C. 1353.

33. Revise § 304-3.9 to read as follows:

§ 304-3.9 May I use other than coach-class accommodation on common carriers or other than lowest first-class accommodations on ships when a non-Federal source pays in full for my transportation expenses to attend a meeting?

Yes, you may use other than coach-class accommodation on common carriers if you meet one of the criteria contained in § 301-10.123 or § 301-10.162 or you may use other than lowest first-class travel if you meet one of the criteria contained in § 301-10.183 of this Title, and are authorized to do so by your agency in accordance with § 304-5.5 of this Chapter.

§ 304-3.10 [Removed and Reserved]

34. Remove and reserve § 304-3.10.

PART 304-5—AGENCY RESPONSIBILITIES

35. The authority citation for 41 CFR Part 304-5 continues to read as follows:

Authority: 5 U.S.C. 5707; 31 U.S.C. 1353

36. Revise § 304-5.5 to read as follows:

§ 304-5.5 May we authorize an employee to travel by other than coach-class on common carriers or other than lowest first-class on ships if we accept payment in full from a non-Federal source for such transportation expenses?

Yes, you may authorize an employee to travel by other than coach-class on common carriers or other than lowest first-class on ships as long as the:

(a) Non-Federal source makes full payment for such transportation services in advance of travel; and

(b) Transportation accommodations furnished are comparable in value to those offered to, or purchased by other similarly situated meeting attendees; and

(c) Travel meets at least one of the conditions in §§ 301-10.123, 301-10.162, and 301-10.183 of this Title.

§ 304-5.6 [Removed]

37. Remove § 304-5.6.

§ 304-5.7 [Redesignated as § 304-5.6]

38. Section § 304-5.7 is redesignated as § 304-5.6.

[FR Doc. E9-25749 Filed 10-26-09; 8:45 am]

BILLING CODE 6820-14-S